DEPARTMENT OF THE INTERIOR

Bureau of Land Management

[CACA-160-1430-FR; CACA 45957-F1; CACA-930-5410-FR-B269; CACA 49272]

Termination of Exchange Segregation and Opening Order; Application for Conveyance of Reserved Federal Mineral Interests, Kern County, CA

AGENCY: Bureau of Land Management, Interior.

ACTION: Notice of realty action.

SUMMARY: This notice cancels and terminates the segregation effect of a proposed land exchange of 121 acres of public land. The land will be opened to location and entry under the general land laws, including the mining laws, subject to valid existing rights, the provision of existing withdrawals, other segregations of record, and the requirements of applicable law.

DATES: December 17, 2007.

ADDRESSES: Bureau of Land Management, Bakersfield Office, 3801 Pegasus Drive, Bakersfield, California 93308-6837. Detailed information concerning this action is available for review at the above address.

FOR FURTHER INFORMATION CONTACT: Rosalinda Estrada, Realty Specialist, at the above address, or at 661-391-6126

SUPPLEMENTARY INFORMATION: A Decision was issued on February 11, 2007, which segregated the land described therein from location and entry under the general land laws, including the mining laws, subject to valid existing rights, for a 5-year period. The Bureau of Land Management has determined that the proposed land exchange of the following described lands will not be needed and has been cancelled:

Mount Diablo Meridian, Kern County, California

T. 29 S., R. 29 E.,

Sec. 6, E½NW¼, SW¼

The above described property aggregates approximately 121 acres in Kern County.

At 9 a.m. on December 17, 2007 the land will be opened to the operation of the general land laws and to location and entry under the United States mining laws, subject to valid existing rights, the provision of existing withdrawals, and other segregations of record. Appropriation of any of the land described in this order under the general mining laws prior to the date and time of restoration is unauthorized. Any such attempted appropriation, including attempted adverse possession under 30 U.S.C. 38, shall vest no rights against the United States. Acts required to establish a location and to initiate a right of possession are governed by State law where not in conflict with Federal law. The Bureau of Land Management will not intervene in disputes between rival locators over possessory rights, because Congress has provided for such determinations in local courts. All valid applications under any other general land laws received at, or prior, to 9 a.m. December 17, 2007 shall be considered as simultaneously filed at that time. Those received thereafter shall be considered in the order of filing.

Mineral Conveyance Segregation

In accordance with section 209(b) of FLPMA, on September 29, 2007, an application was filed for the sale and conveyance of the Federally-owned mineral interest in the above-described tract of land. Publication of this notice segregates, subject to valid existing rights, the Federally-owned mineral interests in the public lands referenced above in this notice from appropriation under the public land laws, including the mining laws, while the sale application is being processed in accordance with the procedural requirements of 43 CFR part 2720. The segregative effect shall terminate: (i) Upon issuance of a patent or other document of conveyance as to such mineral interests; (ii) upon final rejection of the application; or (iii) two years from the date of filing the application, whichever occurs first.

(Authority: 43 CFR 2720.1-1(b))

Dated: December 7, 2007.
Robert M. Doyel,
Chief, Branch of Lands Management.

[FR Doc. E7-24426 Filed 12-14-07; 8:45 am]

BILLING CODE 4310-40-P